DEPARTMENT OF AGRICULTURE

U.S. Codex Office

Codex Alimentarius Commission: Meeting of the Codex Committee on Methods of Analysis and Sampling

AGENCY: U.S. Codex Office, USDA.

ACTION: Notice of public meeting and request for comments.

SUMMARY: The U.S. Codex Office is sponsoring a public meeting on April 8, 2024. The objective of the public meeting is to provide information and receive public comments on agenda items and draft U.S. positions to be discussed at the 43rd Session of the Codex Committee on Methods of Analysis and Sampling (CCMAS) of the Codex Alimentarius Commission (CAC). CCMAS43 will be held in Budapest, Hungary, from May 13-May 18, 2024. The U.S. Manager for Codex Alimentarius and the Under Secretary for Trade and Foreign Agricultural Affairs recognize the importance of providing interested parties the opportunity to obtain background information on the 43rd Session of the CCMAS and to address items on the agenda.

DATES: The public meeting is scheduled for April 8, 2024, from 1:00-3:00 p.m. EDT.

ADDRESSES: The public meeting will take place via Video Teleconference only. Documents related to the 43rd Session of the CCMAS will be accessible via the internet at the following address: https://www.fao.org/fao-who-codexalimentarius/meetings/detail/en/?meeting=CCMAS&session=43.

Dr. Patrick Gray, U.S. Delegate to the 43rd Session of the CCMAS, invites interested U.S. parties to submit their comments electronically to the following email address: patrick.gray@fda.hhs.gov.

Registration: Attendees may register to attend the public meeting at the following link: https://www.zoomgov.com/meeting/register/vJItfu6spzMoHW06zBJaZiV18JYLtvKUfnI. After registering, you will receive a confirmation email containing information about joining the meeting.

For further information about the 43rd Session of the CCMAS, contact U.S. Delegate, Dr. Patrick Gray, Supervisory Chemist, Center for Food Safety and Applied Nutrition, Office of Regulatory Science, U.S. Food and Drug Administration, (240) 402-5026, patrick.gray@fda.hhs.gov. For an additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Methods of Analysis and Sampling (CCMAS) are:

(a) to define the criteria appropriate to Codex Methods of Analysis and Sampling;

(b) to serve as a coordinating body for Codex with other international groups working in methods of analysis and sampling and quality assurance systems for laboratories;

(c) to specify, on the basis of final recommendations submitted to it by the other bodies referred to in (b) above, Reference Methods of Analysis and Sampling appropriate to Codex Standards which are generally applicable to a number of foods;

(d) to consider, amend, if necessary, and endorse, as appropriate, methods of analysis and sampling proposed by Codex (Commodity) Committees, except that methods of analysis and sampling for residues of pesticides or veterinary drugs in food, the assessment of micro biological quality and safety in food, and the assessment of specifications for food additives, do not fall within the terms of reference of this Committee;

(e) to elaborate sampling plans and procedures, as may be required;

(f) to consider specific sampling and analysis problems submitted to it by the Commission or any of its Committees; and,

(g) to define procedures, protocols, guidelines, or related texts for the assessment of food laboratory proficiency, as well as quality assurance systems for laboratories.

The CCMAS is hosted by Hungary. The United States attends the CCMAS as a member country of Codex.

Issues To Be Discussed at the Public Meeting

The following items from the Agenda for the 43rd Session of the CCMAS will be discussed during the public meeting:

• Matters referred to the Committee by the Codex Alimentarius Commission and/or its subsidiary bodies

• Endorsement of methods of analysis provisions and sampling plans in Codex standards

• Review of methods of analysis in CXS 234

• Cereals, pulses, and legumes workable package

• Fish and fishery products workable package

• Fruit juices workable package

• Information document: General Guidelines on Sampling (CXG 50-2004)-e-book with sampling plans applications

• Discussion Papers on the following materials:

○ Numeric performance criteria for the determination of nitrate and nitrite ions in certain food matrices

○ Methods of analysis for precautionary allergen labelling

• Harmonization of names and format for principles identified in CXS 234

• Approach for the placement of nitrogen conversion factors

• Listing of Type IV methods in CXS 234 when a Type I method is listed for the same commodity and provision

• Report of an Inter-Agency Meeting on Methods of Analysis

• Other business and future work

Public Meeting

At the April 8, 2024, public meeting, draft U.S. positions on the agenda items will be described and discussed, and attendees will have the opportunity to pose questions and offer comments. Written comments may be offered at the meeting or sent to Dr. Patrick Gray, U.S. Delegate for the 43rd Session of the CCMAS, at patrick.gray@fda.hhs.gov. Written comments should state that they relate to activities of the 43rd Session of the CCMAS.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on February 28, 2024.
Julie Chao,
U.S. Deputy Manager for Codex Alimentarius.

[FR Doc. 2024-04562 Filed 3-4-24; 8:45 am]

BILLING CODE P